DEPARTMENT OF ENERGY

Federal Energy Regulatory Commission

Combined Notice of Filings #1

August 04, 2005.

Take notice that the Commission received the following electric rate filings

Docket Numbers: ER01-2214-005.

Applicants: Entergy Services, Inc.

Description: Entergy Services, Inc. (Entergy) submits its response to the Commission's 7/19/05 letter requesting additional information regarding Entergy's January 24, 2005 filing of a refund report, in particular information relating to the calculation of refunds Entergy's Schedule (Energy Imbalances Service).

Filed Date: 07/29/2005.

Accession Number: 20050802-0001.

Comment Date: 5 p.m. eastern time on Friday, August 19, 2005.

Docket Numbers: ER05-1262-000.

Applicants: Flat Rock Windpower LLC.

Description: Application of Flat Rock Windpower, LLC requesting blanket approval of market-based rates for the wholesale sale of electric energy, capacity and ancillary services from its new wind farm located in Lewis County, New York.

Filed Date: 07/29/2005.

Accession Number: 20050803-0070.

Comment Date: 5 p.m. eastern time on Friday, August 19, 2005.

Docket Numbers: ER05-1263-000.

Applicants: PJM Interconnection L.L.C.

Description: PJM Interconnection, L.L.C. submits amended network integration transmission service agreements with Southeastern Power Administration & Virginia Electric & Power Company d/b/a Dominion Virginia Power to become effective July 1, 2005.

Filed Date: 07/29/2005.

Accession Number: 20050803-0071.

Comment Date: 5 p.m. eastern time on Friday, August 19, 2005.

Docket Numbers: ER05-1265-000.

Applicants: Mid American Energy Company.

Description: MidAmerican Energy Company submits a revised Interconnection Agreement with Central Iowa Power Cooperative.

Filed Date: 07/29/2005.

Accession Number: 20050803-0074.

Comment Date: 5 p.m. eastern time on Friday, August 19, 2005.

Docket Numbers: ER05-1266-000.

Applicants: Ontelaunee Power Operating, Company, LLC.

Description: Ontelaunee Power Operating Company, LLC submits a Notice of Succession to notify the Commission that, as a result of a name change, it adopts the CES Marketing VI, LLC FERC Rate Schedule 1 as its own; and an amendment to the Rate Schedule to include changes to reflect the name change and corrections in the reporting requirement for changes in status and in Market Behavior Rule 2(b).

Filed Date: 07/29/2005.

Accession Number: 20050803-0064.

Comment Date: 5 p.m. eastern time on Friday, August 19, 2005.

Docket Numbers: ER05-1270-000.

Applicants: Allegheny Energy Supply Company, LLC; Monongahela Power Company.

Description: Allegheny Energy Supply Company, LLC and Monongahela Power Company submit rate schedules which specify their revenue requirement for providing cost-based Reactive Support and Voltage Control from Generation Sources Service from Bath County Generating plant located in the Dominion Virginia Power Zone within the PJM control area administered by the PJM Interconnection, L.L.C.

Filed Date: 07/29/2005.

Accession Number: 20050803-0057.

Comment Date: 5 p.m. eastern time on Friday, August 19, 2005.

Docket Numbers: ER05-1271-000.

Applicants: Lake Benton Power Partners II, LLC.

Description: Lake Benton Power Partners II, LLC submits revised Code of Conduct tariff sheets.

Filed Date: 07/29/2005.

Accession Number: 20050803-0056.

Comment Date: 5 p.m. eastern time on Friday, August 19, 2005.

Docket Numbers: ER05-1272-000.

Applicants: Duke Power, a division of Duke Energy Corporation.

Description: Duke Power, a Division of Duke Energy Corporation, submits First Revised Sheet 2 and 3 to Duke Power's Wholesale Cost-Based Rate Tariff providing for the sales of capacity and energy within the Duke Power control area, to become effective 7/30/05.

Filed Date: 07/29/2005.

Accession Number: 20050803-0055.

Comment Date: 5 p.m. eastern time on Friday, August 19, 2005.

Docket Numbers: ER05-1273-000.

Applicants: Mid-Continent Area Power Pool.

Description: Mid-Continent Area Power Pool on behalf of its public utility members submits revisions to a component of charges for scheduling and tariff administration service under MAPP Schedule F.

Filed Date: 07/29/2005.

Accession Number: 20050803-0075.

Comment Date: 5 p.m. eastern time on Friday, August 19, 2005.

Docket Numbers: ER05-1279-000.

Applicants: PJM Interconnection, L.L.C.; Progress Energy Carolinas, Inc.

Description: PJM Interconnection L.L.C. and Carolina Power & Light Company d/b/a Progress Energy Carolinas, Inc. submit their Joint Operating Agreement executed on 7/27/05.

Filed Date: 07/29/2005.

Accession Number: 20050803-0063.

Comment Date: 5 p.m. eastern time on Friday, August 19, 2005.

Docket Numbers: ER05-534-002; ER05-365-004; ER03-296-004; ER01-3121-003; ER02-418-002; ER03-416-005; ER05-332-002; ER03-951-004; ER04-94-002; ER02-417-002; ER05-481-002.

Applicants: Eastern Desert Power LLC; Elk River Windfarm, LLC; Flying Cloud Power Partners, LLC; Klamath Energy LLC; Klamath Generation LLC; Klondike Wind Power LLC; Klondike Wind Power II LLC; Moraine Wind LLC; Mountain View Power Partners III, LLC; Phoenix Wind Power LLC; Trimont Wind I LLC.

Description: The above-listed subsidiaries of PPM Energy, Inc. submit a joint triennial market power update in compliance with the Commission's Order issued 5/31/05, 111 FERC ¶ 61,295 (2005).

Filed Date: 07/29/2005.

Accession Number: 20050803-0051.

Comment Date: 5 p.m. eastern time on Friday, August 19, 2005.

Docket Numbers: ER05-718-003.

Applicants: California Independent System Operator Corporation.

Description: California Independent System Operator Corporation, in compliance with the Commission's 4/7/05 order (111 FERC ¶ 61,008 (2005)), submits its proposal to maintain the “as-bid” settlement rules for setting intertie transactions (import/export bids) as the longer-term solution to remain in effect beyond the 9/30/05 sunset date specified in the 4/7/05 order.

Filed Date: 07/26/2005.

Accession Number: 20050728-0050.

Comment Date: 5 p.m. eastern time on Tuesday, August 16, 2005.

Docket Numbers: ER96-795-012.

Applicants: Gateway Energy Marketing.

Description: Gateway Energy Marketing submits its Triennial Updated Market Power Analysis in compliance with the Commission's order issued 5/31/05, 111 FERC ¶ 61,295.

Filed Date: 07/29/2005.

Accession Number: 20050729-5051.

Comment Date: 5 p.m. eastern time on Friday, August 19, 2005.

Docket Numbers: ER97-3428-008.

Applicants: Tri-Valley Corporation.

Description: Tri-Valley Corporation submits its Triennial Updated Market Power Analysis in compliance with the Commission's order issued 5/13/05, 111 FERC ¶ 61,295.

Filed Date: 07/29/2005.

Accession Number: 20050729-5052.

Comment Date: 5 p.m. eastern time on Friday, August 19, 2005.

Docket Numbers: ER99-1773-005; ER99-2284-005.

Applicants: AES Eastern Energy, L.P.; AES Creative Resources, L.P., AEE 2, L.L.C.

Description: AES Eastern Energy LP and AES Creative Resources, L.P. and AEE 2, L.L.C. submit proposed revisions to their market-based rate tariffs to incorporate the new change in status reporting requirements and conform to language ordered by the Commission for other affiliates of the AES Parties.

Filed Date: 07/29/2005.

Accession Number: 20050803-0061.

Comment Date: 5 p.m. eastern time on Friday, August 19, 2005.

Docket Numbers: ER99-1773-006; ER99-2284-006.

Applicants: AES Eastern Energy, L.P.; AES Creative Resources, L.P.; AEE2, L.L.C.

Description: AES Eastern Energy LP; AES Creative Resources, L.P.; and AEE2, L.L.C. submits their joint triennial market power update.

Filed Date: 07/29/2005.

Accession Number: 20050803-0062.

Comment Date: 5 p.m. eastern time on Friday, August 19, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4315 Filed 8-9-05; 8:45 am]

BILLING CODE 6717-01-P